DEPARTMENT OF COMMERCE

International Trade Administration

[A-856-001]

Common Alloy Aluminum Sheet From Slovenia: Final Results of Antidumping Duty Administrative Review; 2020-2022

AGENCY: Enforcement and Compliance, International Trade Administration, Department of Commerce.

SUMMARY: The U.S. Department of Commerce (Commerce) is conducting an administrative review of the antidumping duty order on common alloy aluminum sheet (CAAS) from Slovenia. The period of review (POR) is October 15, 2020, through March 31, 2022. The review covers one producer/exporter of the subject merchandise, Impol d.o.o./Impo FT, d.o.o. (Impol). We determine that sales of subject merchandise by Impol were made at less than normal value (NV).

DATES: Applicable July 7, 2023.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

Commerce published the Preliminary Results on March 2, 2023.¹ We invited interested parties to comment on the Preliminary Results. On April 3, 2023, Impol filed a case brief.² For a complete description of the events that occurred after the Preliminary Results, see the Issues and Decision Memorandum.³ Commerce conducted this review in accordance with section 751(a)(1)(B) of the Tariff Act of 1930, as amended (the Act).

¹ See Common Alloy Aluminum Sheet From Slovenia: Preliminary Results of Antidumping Duty Administrative Review; 2020-2022; 88 FR 13090 (March 2, 2023) (Preliminary Results), and accompanying Preliminary Decision Memorandum.

² See Impol's Letter, “Case Brief,” dated April 3, 2023.

³ See Memorandum, “Issues and Decision Memorandum for the Final Results in the 2020-2022 Administrative Review of the Antidumping Duty Order on Common Alloy Aluminum Sheet from Slovenia,” dated concurrently with, and hereby adopted by, this notice (Issues and Decision Memorandum).

Scope of the Order ⁴

⁴ See Common Alloy Aluminum Sheet from Bahrain, Brazil, Croatia, Egypt, Germany, India, Indonesia, Italy, Oman, Romania, Serbia, Slovenia, South Africa, Spain, Taiwan, and the Republic of Turkey: Antidumping Duty Orders, 86 FR 22139 (April 27, 2021) (Order).

The product covered by this Order is CAAS from Slovenia. A full description of the scope of the Order is contained in the Issues and Decision Memorandum.

Analysis of Comments Received

The issue raised in the Impol's case brief is addressed in the Issues and Decision Memorandum and is listed in the appendix to this notice. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly on the internet at https://access.trade.gov/public/FRNNoticesListLayout.aspx.

Changes Since the Preliminary Results

Based on our further examination of the record information, we made changes to our preliminary dumping margin calculation for Impol. For a discussion of these changes, see the Issues and Decision Memorandum.

Final Results of Review

As a result of this review, we determine the following weighted-average dumping margin exists for the POR:

Exporter or producer | Weighted average dumping margin (percent)
Impol d.o.o./Impol FT, d.o.o.⁵ | 5.43

Commerce intends to disclose the calculations performed for these final results of review within five days of the date of publication of this notice in the Federal Register, in accordance with section 751(a) of the Act and 19 CFR 351.224(b).

⁵ The final rate calculated for Impol applies to subject merchandise produced by Impol FT, d.o.o. and exported by either Impol FT, d.o.o. or Impol d.o.o.

Assessment Rates

Pursuant to section 751(a)(2)(A) of the Act and 19 CFR 351.212(b)(1), Commerce has determined, and U.S. Customs and Border Protection (CBP) shall assess, antidumping duties on all appropriate entries of subject merchandise in accordance with the final results of this review.

Impol's weighted-average dumping margin is not de minimis (i.e., less than 0.50 percent). Therefore, Commerce has calculated importer-specific assessment rates on the basis of the ratio of the total amount of dumping calculated for each importer's examined sales to the total entered value of those sales.⁶ Where we did not have entered values for all U.S. sales to a particular importer, we have calculated an importer-specific, per-unit assessment rate on the basis of the ratio of the total amount of dumping calculated for the importer's examined sales to the total quantity of those sales. To determine whether an importer-specific, per-unit assessment rate is de minimis, in accordance with 19 CFR 351.106(c)(1), we have calculated an importer-specific ad valorem ratio based on estimated entered values. Where an importer-specific ad valorem assessment rate is zero or de minimis, we will instruct CBP to liquidate appropriate entries without regard to antidumping duties.⁷

⁶ See 19 CFR 351.212(b)(1).

⁷ See 19 CFR 352.106(c)(2); see also Antidumping Proceeding: Calculation of the Weighted-Average Dumping Margin and Assessment Rate in Certain Antidumping Proceedings; Final Modification, 77 FR 8101, 8103 (February 14, 2012).

Commerce's “reseller policy” will apply to entries of subject merchandise during the POR produced by the company included in these final results of review for which the reviewed company did not know that the merchandise it sold to the intermediary (e.g., a reseller, trading company, or exporter) was destined for the United States. In such instance, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for Impol will be equal to the weighted-average dumping margin established in the final results of this review; (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently-completed segment of this proceeding for the producer of the merchandise; and (4) the cash deposit rate for all other producers or exporters will continue to be 13.43 percent, the all-others rate established in the less-than-fair-value investigation.⁹ These cash deposit requirements, when imposed, shall remain in effect until further notice.

⁹ See Order, 86 FR at 22142.

Notification to Importers Regarding the Reimbursement of Duties

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: June 29, 2023.
Lisa W. Wang,
Assistant Secretary for Enforcement and Compliance.

Appendix

List of Topics Discussed in the Issues and Decision Memorandum

I. Summary

II. Background

III. Scope of the Order

IV. Changes Since the Preliminary Results

V. Discussion of the Issue

Comment: Whether Commerce Appropriately Limited Its Comparison Market Analysis

VI. Recommendation

[FR Doc. 2023-14369 Filed 7-6-23; 8:45 am]

BILLING CODE 3510-DS-P